DEPARTMENT OF ENERGY

Federal Energy Regulatory Commission

Combined Notice of Filings #1

Take notice that the Commission received the following Complaints and Compliance filings in EL Dockets:

Docket Numbers: EL22-71-000.

Applicants: City Water, Light & Power-City of Springfield, IL.

Description: Proposed Revenue Requirement for Reactive Supply Service under Midcontinent Independent System Operator, Inc. Tariff Schedule 2 of City, Water, Light and Power of the City of Springfield, Illinois.

Filed Date: 6/22/22.

Accession Number: 20220622-5146.

Comment Date: 5 p.m. ET 7/13/22.

Take notice that the Commission received the following electric rate filings:

Docket Numbers: ER10-1840-006; ER16-634-002.

Applicants: AltaGas Pomona Energy Inc., Blythe Energy, LLC.

Description: Triennial Market Power Analysis for Southwest Region of Blythe Energy Inc., et al.

Filed Date: 6/24/22.

Accession Number: 20220624-5188.

Comment Date: 5 p.m. ET 8/23/22.

Docket Numbers: ER10-2502-009; ER10-2472-008; ER10-2473-008; ER11-4436-007; ER11-2724-009; ER18-2518-004; ER19-645-003.

Applicants: Black Hills Colorado Wind, LLC, Black Hills Electric Generation, LLC, Black Hills Colorado IPP, LLC, Black Hills Power, Inc., Cheyenne Light, Fuel and Power Company, Black Hills Wyoming, LLC, Black Hills Colorado Electric Company, LLC.

Description: Triennial Market Power Analysis for Northwest Region of Black Hills Colorado Electric, LLC, et al.

Filed Date: 6/27/22.

Accession Number: 20220627-5117.

Comment Date: 5 p.m. ET 8/26/22.

Docket Numbers: ER10-2538-011.

Applicants: Panoche Energy Center, LLC.

Description: Triennial Market Power Analysis for Southwest Region of Panoche Energy Center, LLC.

Filed Date: 6/28/22.

Accession Number: 20220628-5068.

Comment Date: 5 p.m. ET 8/29/22.

Docket Numbers: ER10-2667-002.

Applicants: Invenergy Cannon Falls LLC.

Description: Compliance filing: Informational Filing Regarding Upstream Change in Ownership to be effective N/A.

Filed Date: 6/28/22.

Accession Number: 20220628-5058.

Comment Date: 5 p.m. ET 7/19/22.

Docket Numbers: ER11-2508-027; ER19-1414-003; ER19-1415-003; ER20-2047-002; ER20-2048-002; ER19-2148-003.

Applicants: Heritage Power Marketing, LLC, Ellwood Power, LLC, Ormond Beach Power, LLC, GenOn California South, LP, GenOn REMA, LLC, GenOn Energy Management, LLC.

Description: Triennial Market Power Analysis for Southwest Region of GenOn Energy Management, LLC, et al. under ER11-2508, et al.

Filed Date: 6/28/22.

Accession Number: 20220628-5074.

Comment Date: 5 p.m. ET 8/29/22.

Docket Numbers: ER11-4475-015.

Applicants: Rockland Wind Farm LLC.

Description: Triennial Market Power Analysis for Northwest Region of Rockland Wind Farm LLC under ER11-4475.

Filed Date: 6/28/22.

Accession Number: 20220628-5075.

Comment Date: 5 p.m. ET 8/29/22.

Docket Numbers:ER12-21-024; ER10-2381-011; ER11-2206-012; ER11-2207-012; ER11-2209-012; ER11-2210-012; ER11-2211-012; ER11-2855-026; ER11-2856-026; ER11-2857-026; ER11-3727-018; ER12-1711-018; ER13-1150-010; ER13-1151-010; ER18-814-003; ER19-672-003; ER19-843-003; ER19-844-002; ER19-1061-003; ER19-1062-002; ER19-1063-003; ER19-1200-005; ER20-486-003.

Applicants: Golden Fields Solar III, LLC, Clearway Power Marketing LLC, Solar Borrego I LLC, Solar Avra Valley LLC, Solar Alpine LLC, Solar Roadrunner LLC, Solar Blythe LLC, Marsh Landing LLC, Carlsbad Energy Center LLC, Alta Wind XI, LLC, Alta Wind X, LLC, High Plains Ranch II, LLC, El Segundo Energy Center LLC, Sun City Project LLC, Sand Drag LLC, Avenal Park LLC, Alta Wind I, LLC, Alta Wind III, LLC, Alta Wind II, LLC, Alta Wind IV, LLC, Alta Wind V, LLC, Walnut Creek Energy, LLC, Agua Caliente Solar, LLC.

Description: Triennial Market Power Analysis for Southwest Region of Agua Caliente Solar, LLC, et al.

Filed Date: 6/27/22.

Accession Number: 20220627-5162.

Comment Date: 5 p.m. ET 8/26/22.

Docket Numbers: ER15-1905-009.

Applicants: AZ721 LLC.

Description: Supplement to January 28, 2022 Notice of Change in Status of Amazon Energy LLC.

Filed Date: 6/24/22.

Accession Number: 20220624-5185.

Comment Date: 5 p.m. ET 7/15/22.

Docket Numbers: ER18-2370-004.

Applicants: Lackawanna Energy Center LLC.

Description: Compliance filing: Informational Filing Regarding Upstream Change in Ownership to be effective N/A.

Filed Date: 6/28/22.

Accession Number: 20220628-5062.

Comment Date: 5 p.m. ET 7/19/22.

Docket Numbers: ER19-266-003.

Applicants: Invenergy Nelson LLC.

Description: Compliance filing: Informational Filing Regarding Upstream Change in Ownership to be effective N/A.

Filed Date: 6/28/22.

Accession Number: 20220628-5060.

Comment Date: 5 p.m. ET 7/19/22.

Docket Numbers: ER22-1197-001.

Applicants: Southern California Edison Company.

Description: Filing Withdrawal: Request to Withdraw Filing, Catalina 2nd Amend-Deficiency Response (ER22-1197) to be effective N/A.

Filed Date: 6/22/22.

Accession Number: 20220622-5038.

Comment Date: 5 p.m. ET 7/5/22.

Docket Numbers: ER22-2203-000.

Applicants: Southwest Power Pool, Inc.

Description: § 205(d) Rate Filing: 2825R10 KMEA and Evergy Kansas Central Meter Agent Agreement to be effective 6/1/2022.

Filed Date: 6/28/22.

Accession Number: 20220628-5066.

Comment Date: 5 p.m. ET 7/19/22.

Docket Numbers: ER22-2204-000.

Applicants: Alabama Power Company, Georgia Power Company, Mississippi Power Company.

Description: § 205(d) Rate Filing: Alabama Power Company submits tariff filing per 35.13(a)(2)(iii: Midland-Wiregrass Solar (Hybrid Project) LGIA Filing to be effective 6/14/2022.

Filed Date: 6/28/22.

Accession Number: 20220628-5098.

Comment Date: 5 p.m. ET 7/19/22.

Docket Numbers: ER22-2205-000.

Applicants: Southwest Power Pool, Inc.

Description: § 205(d) Rate Filing: 1897R12 Evergy Kansas Central, Inc. NITSA NOA to be effective 9/1/2022.

Filed Date: 6/28/22.

Accession Number: 20220628-5099.

Comment Date: 5 p.m. ET 7/19/22.

Docket Numbers: ER22-2206-000.

Applicants: Southwest Power Pool, Inc.

Description: § 205(d) Rate Filing: 1883R11 Evergy Kansas Central, Inc. NITSA NOA to be effective 9/1/2022.

Filed Date: 6/28/22.

Accession Number: 20220628-5109.

Comment Date: 5 p.m. ET 7/19/22.

Docket Numbers: ER22-2207-000.

Applicants: Sun Streams PVS, LLC.

Description: § 205(d) Rate Filing: Revised Market-Based Rate Tariff to be effective 6/29/2022.

Filed Date: 6/28/22.

Accession Number: 20220628-5117.

Comment Date: 5 p.m. ET 7/19/22.

Docket Numbers: ER22-2208-000.

Applicants: Public Service Company of Colorado.

Description: § 205(d) Rate Filing: 2022-06-28-PSCoES-PI-2021-4-PLGIA-RockyMtnEnergyCtr-703-0.0.0 to be effective 6/29/2022.

Filed Date: 6/28/22.

Accession Number: 20220628-5118.

Comment Date: 5 p.m. ET 7/19/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2022.
Debbie-Anne A. Reese,
Deputy Secretary.

[FR Doc. 2022-14221 Filed 7-1-22; 8:45 am]

BILLING CODE 6717-01-P